DEPARTMENT OF DEFENSE

Department of the Army, Corps of Engineers

Intent To Prepare a Combined Environmental Impact Statement/Environmental Impact Report (EIS/EIR) for Flood Damage Reduction Activities Along the Pajaro River in Santa Cruz and Monterey Counties, CA

AGENCY: U.S. Army Corps of Engineers, DOD.

ACTION: Notice of intent.

SUMMARY: The San Francisco District and the Counties of Santa Cruz and Monterey, California intend to prepare a combined EIS/EIR to support a cost shared study for flood damage reduction of lands surrounding the Pajaro River in the Lower Pajaro River Watershed. The project boundaries include the lower Pajaro River and its tributaries. The Pajaro River (or Main Stem) is the county border. The Pajaro River section begins at Murphy's Crossing and extends to the mouth of the Pajaro River, which empties into Monterey Bay. The tributary section located in Santa Cruz County is comprised of the lower Corralitos Creek running from Green Valley Road to Lake Avenue. Corralitos Creek empties into Salsipuedes Creek near College Lake. The project footprint continues from the confluence of Corralitos and Salsipuedes Creeks, down Salsipuedes Creek until it empties into the Pajaro River. The project area is mainly agricultural, but includes the incorporated City of Watsonville on the Santa Cruz County, California side of the river and the unincorporated Town of Pajaro on the Monterey County, California side. Proposed plans will include: No-action, non-structural, and structural alternatives to be determined during the planning process. The EIS/EIR will analyze potential impacts on the environment on these alternatives, including the recommended plan.

FOR FURTHER INFORMATION CONTACT: For further information contact Ms. Linda Ngim either by telephone at (415) 977-8538, by fax at (415) 977-8695, or by mail at the address below.

SUPPLEMENTARY INFORMATION: The Army Corps of Engineer and Santa Cruz and Monterey Counties intends to prepare a combined EIS/EIR to assess the environmental effects associated with the proposed project. The public will have the opportunity to comment on this environmental impact analysis before any action is taken to implement the proposed action.

1. Scoping

The Army Corps of Engineers will hold a scoping meeting on Thursday, June 21, 2001 at the Watsonville Senior Center, 114 East Fifth Street in Watsonville, California, 95076 from 5 p.m. to 7 p.m. Federal, State and Local agencies are invited to participate at the public meeting or by submitting data, information, and comments identifying relevant environmental and socioeconomic issues to be addressed in the environmental analysis. Useful information includes other environmental studies, published and unpublished data, alternatives that should be addressed in the analysis, and potential measures associated with the proposed action. Comments, suggestions, and requests to be placed on the mailing list for announcements and for the Draft EIS/EIR, should be sent to Ms. Linda Ngim, U.S. Army Corps of Engineers, San Francisco District, 333 Market Street, 7th floor (CESPN-ET-PP), San Francisco, California, 94105-2197. Deadline for comments to be included into the EIS/EIR is the Close of Business July 31, 2001.

2. Availability of the Draft EIS/EIR

The Draft EIS/EIR is expected to be published in early January 2002, and a public hearing to receive comments on the Draft EIS/EIR will be held after it is published.

Luz D. Ortiz,
Army Federal Register Liaison Officer.

[FR Doc. 01-14515 Filed 6-7-01; 8:45 am]

BILLING CODE 3710-19-M